DEPARTMENT OF ENERGY

Federal Energy Regulatory Commission

Privacy Act of 1974; System of Records

AGENCY: Federal Energy Regulatory Commission (FERC), Department of Energy.

ACTION: Rescindment of system of records notices.

SUMMARY: Pursuant to the Privacy Act of 1974 and Office of Management and Budget (OMB) Circular No. A-108, the Federal Energy Regulatory Commission (Commission or FERC) proposes to rescind 2 existing systems of records notices. Specifically, the following SORNS are being proposed for rescindment: (1) FERC-44: Request for Commission Publications and Information; and (2) FERC-45: Commission's Requested Records Tracking System (RRTS). The basis for rescindment is explained below.

DATES: Comments on this rescindment notice must be received no later than 30 days after the date of publication in the Federal Register. If no public comment is received during the period allowed for comment or unless otherwise published in the Federal Register by FERC, the rescindment will become effective a minimum of 30 days after the date of publication in the Federal Register. If FERC receives public comments, FERC shall review the comments to determine whether any changes to the notice are necessary.

ADDRESSES: Comments may be submitted in writing to Federal Energy Regulatory Commission, 888 First Street NE, Washington, DC 20426, or electronically to privacy@ferc.gov. Comments should indicate that they are submitted in response to Request for Commission Publications and Information (FERC-44) and Commission's Requested Records Tracking System (RRTS) (FERC-45).

FOR FURTHER INFORMATION CONTACT: Supervisory Records and Information Management Specialist, Office of the Secretary, Records Management Team, Federal Energy Regulatory Commission, 888 First Street NE, Washington, DC 20426, (202) 502-8400.

SUPPLEMENTARY INFORMATION: Two systems were identified for rescindment from the FERC's Privacy Act systems of records inventory. SORNs were identified for rescindment because the SORNs are duplicative and covered by another FERC system of records. OMB requires that each agency provide assurance that systems of records do not duplicate any existing agency or government-wide systems of records. Accordingly, two SORNs were identified for rescindment.

First, FERC-44: Request for Commission Publications and Information is duplicative of and shares the same purpose as the records in SORN FERC-61: Requests for Commission Publications and Information, 75 FR 17978 (March 28, 2014). Second, FERC-45: Commission's Requested Records Tracking System (RRTS) is duplicative of and shares the same purpose as the records in SORN FERC-61: Requests for Commission Publications and Information, 75 FR 17978 (March 28, 2014).

SYSTEM NAME AND NUMBER: Request for Commission Publications and Information—FERC-44 & Commission's Requested Records Tracking System (RRTS)—FERC-45

HISTORY:

System of records number | Federal Register citation and publication date
FERC-44 | 65 FR 21757 (April 24, 2000).
FERC-45 | 65 FR 21757 (April 24, 2000).

Dated: August 2, 2023.
Kimberly D. Bose,
Secretary.

[FR Doc. 2023-16972 Filed 8-8-23; 8:45 am]

BILLING CODE 6717-01-P